DEPARTMENT OF ENERGY

Federal Energy Regulatory Commission

[Project No. 1394-081]

Southern California Edison Company; Notice of Application Tendered for Filing With the Commission and Establishing Procedural Schedule for Relicensing and Deadline for Submission of Final Amendments

Take notice that the following hydroelectric application has been filed with the Commission and is available for public inspection.

a. Type of Application: New Major License.

b. Project No.: 1394-081.

c. Date Filed: June 29, 2022.

d. Applicant: Southern California Edison Company.

e. Name of Project: Bishop Creek Hydroelectric Project (project).

f. Location: The existing project is on Bishop Creek in Inyo County, California. The project occupies approximately 758 acres of federal land administered by the U.S. Forest Service and approximately 51 acres of federal land administered by the U.S. Bureau of Land Management.

g. Filed Pursuant to: Federal Power Act, 16 U.S.C. 791(a)-825(r).

h. Applicant Contact: Matthew Woodhall, Project Lead, Regulatory Support Services, Southern California Edison Company, 1515 Walnut Grove Ave., Rosemead, CA 91770, (626) 302-9596, or matthew.woodhall@sce.com.

i. FERC Contact: Kelly Wolcott, (202) 502-6480 or kelly.wolcott@ferc.gov.

j. This application is not ready for environmental analysis at this time.

k. Project Description: The existing Bishop Creek Hydroelectric Project generally consists of 5 powerhouses (Powerhouses 2 through 6) on the Middle Fork of Bishop Creek; 3 primary storage reservoirs (South Lake Reservoir, Lake Sabrina, and Longley Lake); 13 dams or diversions and flowlines that collect water from Green Creek (a tributary to Bishop Creek), Birch Creek, and McGee Creek; and appurtenant facilities. The project has an authorized capacity of approximately 29 megawatts. The estimated average annual generation of the project is 129,550 megawatt-hours.

The project is operated as a storage-release facility and does not propose any changes to operation. Project operations are dictated by the current license, as well as a 1922 water rights ruling (Chandler Decree) and a 1933 Sales Agreement with the Los Angeles Department of Water and Power. The Bishop Creek Project begins diverting or impounding water at five points: Green Creek at Bluff Lake, South Fork Bishop Creek at South Lake, Middle Fork Bishop Creek at Lake Sabrina, McGee Creek at Longley Lake, and Birch Creek at Birch-McGee diversion. Plant No. 2 receives water originating from Longley Lake dam and the upper portions of the Birch Creek watershed. Longley Lake dam discharges water to McGee Creek, where it flows approximately 1 mile before being intercepted by the McGee Creek diversion. Water is then diverted into a series of pipelines and open channels and delivered to Birch Creek.

After entering Birch Creek, the water flows approximately 0.5 mile before being diverted again by the Birch-McGee diversion, where enters a pipe and descends over 1,100 feet in elevation before intercepting the penstock to Plant No. 2. A portion of the water flows down Bishop Creek while another portion is conveyed through a series of pipes and penstocks connecting Plants No. 2, through No. 6. Each powerhouse and intake controls the portion of water entering Bishop Creek and the portion directed into the pipe and penstock conveyances. After Plant No. 6, Bishop Creek flows to the community of Bishop and the Owens Valley. When Plant No. 6 is offline, there is an alternative take-off below Plant No. 5. The regulated reaches between Lake Sabrina and Intake No. 2 and those between South Lake and South Fork diversion experience similar flow fluctuations. The current license requires minimum flow releases into diverted reaches.

SCE proposes to modify resource plans and measures it has implemented under the current license, including: (1) water management; (2) the Stocking Plan; (3) the Wildlife Resource Management Plans; (4) the Botanical Resource Management Plan; and (5) the Historic Properties Management Plan. In addition, SCE proposes to develop and implement the following new plans: (1) a sediment management plan; (2) an invasive species management plan; and (3) a recreation resources management plan.

l. In addition to publishing the full text of this notice in the Federal Register, the Commission provides all interested persons an opportunity to view and/or print the contents of this notice, as well as other documents in the proceeding (e.g., license application) via the internet through the Commission's homepage (http://www.ferc.gov) using the “eLibrary” link. Enter the docket number excluding the last three digits in the docket number field to access the document (P-1394). For assistance, contact FERCOnlineSupport@ferc.gov, or call toll-free, (866) 208-3676 or (202) 502-8659 (TTY).

m. You may also register online at https://ferconline.ferc.gov/FERCOnline.aspx to be notified via email of new filings and issuances related to this or other pending projects. For assistance, contact FERC Online Support.

n. Procedural Schedule: The application will be processed according to the following preliminary Hydro Licensing Schedule. Revisions to the schedule may be made as appropriate.

Milestone | Target date
Issue Deficiency Letter (if necessary) | July 2022.
Request Additional Information (if necessary) | August 2022.
Notice of Acceptance/Notice of Ready for Environmental Analysis | September 2022.
Filing of recommendations, preliminary terms and conditions, and fishway prescriptions | November 2022.

o. Final amendments to the application must be filed with the Commission no later than 30 days from the issuance date of the notice of ready for environmental analysis.

Dated: July 12, 2022.
Debbie-Anne A. Reese,
Deputy Secretary.

[FR Doc. 2022-15259 Filed 7-15-22; 8:45 am]

BILLING CODE 6717-01-P